ENVIRONMENTAL PROTECTION AGENCY

[EPA-HQ-OPPT-2003-0004; FRL-8112-1]

Access to Confidential Business Information by Lockheed-Martin Services, Inc.

AGENCY: Environmental Protection Agency (EPA).

ACTION: Notice.

SUMMARY: EPA has authorized its contractor, Lockheed-Martin Services, Inc. of Cherry Hill, NJ and its subcontractors, to access information which has been submitted to EPA under section(s) 4, 5, 6, 7, 8, 12, and 13 of the Toxic Substances Control Act (TSCA). Some of the information may be claimed or determined to be Confidential Business Information (CBI).

DATES: Access to the confidential data will occur no sooner than March 2, 2007.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Pam Moseley, Information Management Division (7407M), Office of Pollution Prevention and Toxics, Environmental Protection Agency, 1200 Pennsylvania Ave., NW., Washington, DC 20460-0001; telephone number: 202-564-8956; fax number: 202-564-8955; e-mail address: pamela.moseley@epa.gov.

SUPPLEMENTARY INFORMATION:

I. General Information

A. Does this Notice Apply to Me?

This action is directed to the public in general. This action may, however, be of interest to those persons who are or may be required to conduct testing of chemical substances under the TSCA. Since other entities may also be interested, the Agency has not attempted to describe all the specific entities that may be affected by this action. If you have any questions regarding the applicability of this action to a particular entity, consult the technical person listed under FOR FURTHER INFORMATION CONTACT.

B. How Can I Get Copies of this Document and Other Related Information?

1. Docket. EPA has established a docket for this action under docket ID number EPA-HQ-OPPT-2003-0004. Publicly available docket materials are available electronically at http://www.regulations.gov or, if only available in hard copy, at the OPPT Docket in the EPA Docket Center (EPA/DC). The EPA/DC suffered structural damage due to flooding in June 2006. Although the EPA/DC is continuing operations, there will be temporary changes to the EPA/DC during the clean-up. The EPA/DC Public Reading Room, which was temporarily closed due to flooding, has been relocated in the EPA Headquarters Library, Infoterra Room (Room Number 3334) in the EPA West Building, located at 1301 Constitution Ave., NW., Washington, DC. The EPA/DC Public Reading Room is open from 8:30 a.m. to 4:30 p.m., Monday through Friday, excluding legal holidays. The telephone number for the EPA/DC Public Reading Room is (202) 566-1744, and the telephone number for the OPPT Docket is (202) 566-0280. EPA visitors are required to show photographic identification and sign the EPA visitor log. Visitors to the EPA/DC Public Reading Room will be provided with an EPA/DC badge that must be visible at all times while in the EPA Building and returned to the guard upon departure. In addition, security personnel will escort visitors to and from the new EPA/DC Public Reading Room location. Up-to-date information about the EPA/DC is on the EPA web site at http://www.epa.gov/epahome/dockets.htm.

2. Electronic access. You may access this Federal Register document electronically through the EPA Internet under the “Federal Register” listings at http://www.epa.gov/fedrgstr.

II. What Action is the Agency Taking?

Under contract number 68-W-04-005, contractor Lockheed-Martin Services, Inc of 2339 Route 70 West, Floor 3W, Cherry Hill, NJ and its subcontractors Bearing Point, of 1676 International Drive, McLean, VA; Intervise, of 12 South Summit Avenue, Suite 100, Gaithersburg, MD; McDonald Bradley, of 2250 Corporate Park Drive, Suite 500, Herndon, VA; and Subsidium, of 115 Chester Street, Front Royal, VA; will assist the Office of Pollution Prevention and Toxics (OPPT) in Management Systems architecture design, integration, testing and development. They will also assist with project management, scheduling, and support of the Enterprise Content Management System (ECMS).

In accordance with 40 CFR 2.306(j), EPA has determined that under EPA contract number 68-W-04-005, Lockheed-Martin Services, Inc. and its subcontractors will require access to CBI submitted to EPA under section(s) 4, 5, 6, 7, 8, 12, and 13 of TSCA to perform successfully the duties specified under the contract. Lockheed-Martin Services, Inc. and its subcontractor personnel will be given access to information submitted to EPA under section(s) 4, 5, 6, 7, 8, 12, and 13 of TSCA. Some of the information may be claimed or determined to be CBI.

EPA is issuing this notice to inform all submitters of information under section(s) 4, 5, 6, 7, 8, 12, and 13 of TSCA that EPA may provide Lockheed-Martin Services, Inc. and its subcontractors access to these CBI materials on a need-to-know basis only. All access to TSCA CBI under this contract will take place at EPA Headquarters.

Lockheed-Martin Services, Inc. and its subcontractors will be authorized access to TSCA CBI at EPA Headquarters under the EPA TSCA CBI Protection Manual.

Clearance for access to TSCA CBI under this contract may continue until January 8, 2009, unless such access is extended.

Lockheed-Martin Services, Inc. and its subcontractors personnel will be required to sign nondisclosure agreements and will be briefed on appropriate security procedures before they are permitted access to TSCA CBI.

List of Subjects

Environmental protection, Confidential business information.

Dated: January 18, 2007.
Brion Cook,
Director, Information Management Division, Office of Pollution Prevention and Toxics.

[FR Doc. E7-1431 Filed 1-30-07; 8:45 am]

BILLING CODE 6560-50-S